DEPARTMENT OF EDUCATION

[Docket No.: ED-2021-SCC-0080]

Agency Information Collection Activities; Comment Request; Voluntary Decline of Higher Education Emergency Relief Funds Form

AGENCY: Office of Postsecondary Education (OPE), Department of Education (ED).

ACTION: Notice.

SUMMARY: In accordance with the Paperwork Reduction Act of 1995, ED is requesting the Office of Management and Budget (OMB) to conduct an emergency review of a new information collection.

DATES: OMB approved this information collection under emergency processing on May 10, 2021. A regular clearance process is also hereby being initiated. Interested persons are invited to submit comments on or before July 27, 2021.

ADDRESSES: To access and review all the documents related to the information collection listed in this notice, please use http://www.regulations.gov by searching the Docket ID number ED-2021-SCC-0080. Comments submitted in response to this notice should be submitted electronically through the Federal eRulemaking Portal at http://www.regulations.gov by selecting the Docket ID number or via postal mail, commercial delivery, or hand delivery. If the regulations.gov site is not available to the public for any reason, ED will temporarily accept comments at ICDocketMgr@ed.gov. Please include the docket ID number and the title of the information collection request when requesting documents or submitting comments. Please note that comments submitted by fax or email and those submitted after the comment period will not be accepted. Written requests for information or comments submitted by postal mail or delivery should be addressed to the Director of the Strategic Collections and Clearance Governance and Strategy Division, U.S. Department of Education, 400 Maryland Ave. SW, LBJ, Room 6W208D, Washington, DC 20202-4537.

FOR FURTHER INFORMATION CONTACT: For specific questions related to collection activities, please contact Karen Epps, 202-453-6337.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Voluntary Decline of Higher Education Emergency Relief Funds Form.

OMB Control Number: 1840-0856.

Type of Review: Extension.

Respondents/Affected Public: Private Sector.

Total Estimated Number of Annual Responses: 125.

Total Estimated Number of Annual Burden Hours: 63.

Abstract: Funding for the Higher Education Emergency Relief Fund (HEERF) is provided by the Coronavirus Aid, Relief, and Economic Security Act (CARES Act) (Pub. L. 116-136), the Coronavirus Response and Relief Supplemental Appropriations Act, 2021 (CRRSAA) (Pub. L. 116-260) and the American Rescue Plan Act of 2021 (Pub. L. 117-2). Institutions eligible for funding under these statutes may elect to voluntarily decline all or a portion of their HEERF grant awards, in which case the U.S. Department of Education (the Department) will then de-obligate the funds from the institution's G5 account and will later redistribute the funds to other institutions with greater needs due to the coronavirus. In order to process the de-obligation and redistribution of these funds more efficiently, the Department is requesting approval of a short form that will allow these institutions to provide the Department with information regarding the funds being declined.

Additional Information: The Department received emergency clearance for this information collection in order to issue awards in a timely manner. Due to the heightened risk associated with proprietary institutions, the Department determined it necessary to obtain additional certifications prior to making further awards under the (a)(4) funding stream. Without approval of the Required Proprietary Institution Certifications form, the Department would have been forced to delay making ARP (a)(4) awards to these institutions. Delay of ARP (a)(4) awards would be particularly problematic, as Congress has designated these funds as being solely directed to emergency financial aid grants to students at these institutions.

Dated: May 25, 2021.
Kate Mullan,
PRA Coordinator, Strategic Collections and Clearance Governance and Strategy Division, Office of Chief Data Officer.

[FR Doc. 2021-11358 Filed 5-27-21; 8:45 am]

BILLING CODE 4000-01-P